DEPARTMENT OF TRANSPORTATION

Office of the Secretary

Aviation Proceedings, Agreements Filed the Week Ending July 25, 2009

The following Agreements were filed with the Department of Transportation under Sections 412 and 414 of the Federal Aviation Act, as amended (49 U.S.C. 1382 and 1384) and procedures governing proceedings to enforce these provisions. Answers may be filed within 21 days after the filing of the application.

Docket Number: DOT-OST-2009-0166.

Date Filed: July 22, 2009.

Parties: Members of the International Air Transport Association.

Subject:

Mail Vote 605—Resolution 010e.

TC3 Special Passenger Amending Resolution between Japan and China (excluding Hong Kong SAR and Macao SAR), (Memo 1310).

Intended effective date: 05 August 2009.

Docket Number: DOT-OST-2009-0169.

Date Filed: July 23, 2009

Parties: Members of the International Air Transport Association.

Subject:

Mail Vote 606—Resolution 010f.

TC3 Special Passenger Amending Resolution From Brunei Darussalam to South East Asia, (Memo 1311).

Intended effective date: 05 August 2009.

Docket Number: DOT-OST-2009-0170.

Date Filed: July 24, 2009.

Parties: Members of the International Air Transport Association.

Subject:

PTC31 N&C 0487.

TC31 North & Central Pacific.

TC3 (except Japan)-North America, Caribbean except between Korea (Rep. of) and USA.

Resolution 010g, 046e.

Special Passenger Amending Resolution from Korea (Rep. of) to Canada, Mexico, Caribbean (Memo 0487).

Intended effective date: 7 August 2009.

Docket Number: DOT-OST-2009-0171.

Date Filed: July 24, 2009.

Parties: Members of the International Air Transport Association.

Subject:

PTC31 N&C 0487.

TC31 North & Central Pacific.

TC3 (except Japan)-North America, Caribbean between Korea (Rep. of) and USA.

Resolution 010h.

Special Passenger Amending Resolution from Korea (Rep. of) to USA (Memo 0488).

Intended effective date: 7 August 2009.

Renee V. Wright,
Program Manager, Docket Operations, Federal Register Liaison.

[FR Doc. E9-18689 Filed 8-4-09; 8:45 am]

BILLING CODE 4910-9X-P